DEPARTMENT OF TRANSPORTATION

Surface Transportation Board

[Docket No. FD 35848]

Wisconsin & Southern Railroad, L.L.C.—Acquisition and Operation Exemption—Union Pacific Railroad Company

AGENCY: Surface Transportation Board.

ACTION: Notice of acquisition and operation exemption.

SUMMARY: The Board is granting an exemption under 49 U.S.C. 10502 from the prior approval requirements of 49 U.S.C. 10902 for Wisconsin & Southern Railroad, L.L.C. (WSOR), a Class II rail carrier, to acquire from the Union Pacific Railroad Company (UP) and operate a permanent exclusive freight rail operating easement over approximately 69.62 miles of rail line (the Line) in the State of Wisconsin. Specifically, the Line includes: (a) The Reedsburg Line, between milepost 134.0 and milepost 191.90 near Reedsburg; (b) the Central Soya Industrial Lead, between milepost 83.78 and milepost 85.5 in Madison; and (c) the Cottage Grove Industrial Lead, between milepost 81.00 and milepost 71.00. WSOR has been the exclusive operator over the Line since 1996 pursuant to a lease with UP, and upon consummation of the transaction, will continue to operate the line. The exemption is subject to standard labor protective conditions. In the same decision, the Board is granting WSOR a waiver of the employee notice requirements of 49 CFR 1121.4(h).

DATES: This exemption will be effective on December 6, 2014. Petitions to stay must be filed by November 17, 2014. Petitions to reopen must be filed by November 26, 2014.

ADDRESSES: Send an original and 10 copies of all pleadings, referring to Docket No. FD 35848, to: Surface Transportation Board, 395 E Street SW., Washington, DC 20423-0001. In addition, one copy of all pleadings must be served on WSOR's representative: Karl Morell, Of Counsel, BALL JANIK LLP, Suite 225, 655 Fifteenth Street NW., Washington, DC 20005, and on all other parties of record in Docket No. FD 35848.

FOR FURTHER INFORMATION CONTACT: Scott Zimmerman, (202) 245-0386. Assistance for the hearing impaired is available through the Federal Information Relay Service (FIRS) at (800) 877-8339. Copies of written filings will be available for viewing and self-copying at the Board's Public Docket Room, Room 131, and will be posted to the Board's Web site.

SUPPLEMENTARY INFORMATION: Additional information is contained in the Board's decision served on November 6, 2014, which is available on our Web site at www.stb.dot.gov.

Decided: November 6, 2014.
By the Board, Chairman Elliott, Vice Chairman Miller, and Commissioner Begeman.
Raina White,
Clearance Clerk.

[FR Doc. 2014-26740 Filed 11-10-14; 8:45 am]

BILLING CODE 4915-01-P